ENVIRONMENTAL PROTECTION AGENCY

[EPA-HQ-OECA-2006-0778; FRL-8459-1]

Agency Information Collection Activities; Submission to OMB for Review and Approval; Comment Request; NESHAP for Industrial, Commercial and Institutional Boilers and Process Heaters (Renewal); EPA ICR Number 2028.03, OMB Control Number 2060-0551

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before September 24, 2007.

ADDRESSES: Submit your comments, referencing docket ID number EPA-HQ-OECA-2006-0778, to (1) EPA online using http://www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On October 5, 2006 (71 FR 58853), EPA sought comments on this ICR pursuant to 5 CFR 1320.8(d). EPA received no comments. Any additional comments on this ICR should be submitted to EPA and OMB within 30 days of this notice.

EPA has established a public docket for this ICR under Docket ID Number EPA-HQ-OECA-2006-0778, which is available for public viewing online at http://www.regulations.gov, or, in person viewing at the Enforcement and Compliance Docket in the EPA Docket Center (EPA/DC), EPA West, Room B 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket Center is (202) 566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, CBI, or other information whose public disclosure is restricted by statute. For further information about the electronic docket, go to http://www.regulations.gov.

Title: NESHAP for Industrial, Commercial and Institutional Boilers and Process Heaters (Renewal).

ICR Numbers: EPA ICR Number 2028.03, OMB Control Number 2060-0551.

ICR Status: This ICR is scheduled to expire on August 31, 2007. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The National Emission Standards for Hazardous Air Pollutants (NESHAP) for Industrial, Commercial and Institutional Boilers and Process Heaters (40 CFR part 63, subpart DDDDD) were proposed on January 13, 2003, and promulgated on December 6, 2006.

This regulation applies to new, reconstructed, or existing industrial, commercial and institutional boilers and process heaters that are a major source of hazardous air pollutants (HAP) emissions. A major source of HAP emissions is any stationary source or group of stationary sources located within a contiguous area and under common control that emits or has the potential to emit any single HAP at a rate of 9.07 megagrams (10 tons) or more per year or any combination of HAP at a rate of 22.68 megagrams (25 tons) or more per year.

Owners/operators of industrial, commercial and institutional boilers and process heaters facilities are required to submit initial notifications, performance tests, and periodic reports. Respondents are also required to maintain records of the occurrence and duration of any startup, shutdown, or malfunction in the operation of an affected facility, or any period during which the monitoring system is inoperative. Semiannual reports are also required. These notifications, reports, and records are essential in determining compliance; and are required, in general, of all sources subject to NESHAP.

Any owner or operator subject to the provisions of this part shall maintain a file of these measurements, and retain the file for at least five years following the date of such measurements, maintenance reports and records. All reports are sent to the delegated state or local authority. In the event that there is no such delegated authority, the reports are sent directly to the EPA regional office. This information is being collected to assure compliance with 40 CFR part 63, subpart DDDDD, as authorized in section 112 and 114(a) of the Clean Air Act. The required information consists of emissions data and other information that have been determined to be private.

An Agency may not conduct or sponsor, and a person is not required to respond to, a collection of information unless it displays a currently valid OMB control number. The OMB control number for EPA's regulations are listed in 40 CFR part 9 and 48 CFR chapter 15, and are identified on the form and/or instrument, if applicable.

Burden Statement: The annual public reporting and recordkeeping burden for this collection of information is estimated to average 86 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Industrial, commercial and institutional boilers and process heaters facilities.

Estimated Number of Respondents: 2,625.

Frequency of Response: Initially, semiannually and occasionally.

Estimated Total Annual Hour Burden: 513,995.

Estimated Total Costs: $74,783,461, which includes $10,780,000 annualized Capital Startup costs, $18,220,800 annualized Operations & Maintenance (O&M) costs, and $45,783,461 annualized Labor costs.

Changes in the Estimates: The number of responses subject to the standard is estimated to be 5,974. The number of responses in the previous ICR was 18,788. During the initial compliance period a large number of facilities were required to determine whether they were subject to the standard. Most were not subject and no additional reporting is required, therefore, a large reduction in the number of affected facilities occurred. There is an adjustment decrease of 636,250 hours in the total estimated burden hours as currently identified in the OMB Inventory of Approved ICR Burdens. This decrease is not due to any program changes. The change in the burden has occurred because the initial performance tests and the initial reports for existing sources have been completed and submitted to the Agency. The relatively small number of new sources causes a small increase in burden hours. However, the net overall effect is a decrease in the number of burden hours.

There is an increase in the capital/startup and operation and maintenance (O&M) cost compared to the previous ICR. The reason for this increase is due to the fact that this renewal ICR incurred O&M costs as compared with the active ICR that included primarily capital/startup costs. There is also an increase of 289 additional new sources per year over the next three years of this ICR. The net effect is an increase in cost to the subject facilities.

Dated: August 14, 2007.
Sara Hisel-McCoy,
Acting Director, Collection Strategies Division.

[FR Doc. E7-16698 Filed 8-22-07; 8:45 am]

BILLING CODE 6560-50-P